DEPARTMENT OF THE INTERIOR

Bureau of Land Management

[OR-100-6333-PH; GP2-0195]

Meetings: Resource Advisory Committees—Roseburg District

AGENCY: Bureau of Land Management, Interior.

ACTION: Meeting notices for the Roseburg District Bureau of Land Management (BLM) Resource Advisory Committee under Section 205 of the Secure Rural Schools and Community Self Determination Act of 2000 (Pub. L. 106-393).

SUMMARY: This notice is published in accordance with Section 10(a) (2) of the Federal Advisory Committee Act. Meeting notice is hereby given for the Roseburg District BLM Resource Advisory Committee pursuant to Section 205 of the Secure Rural Schools and Community Self Determination Act of 2000, Public Law 106-393 (the Act). Topics to be discussed by the Roseburg District BLM Resource Advisory Committee include operating procedures, evaluation criteria for projects, technical details of projects, and merits of projects.

DATES: The Roseburg Resource Advisory Committee will meet at the BLM Roseburg District Office, 777 N.W. Garden Valley Boulevard, Roseburg, Oregon 97470, 9 a.m. to 4 p.m., on April 18, June 6, June 20, and June 27, and there will be a field trip on May 23, 2005.

SUPPLEMENTARY INFORMATION: Pursuant to the Act, five Resource Advisory Committees have been formed for western Oregon BLM districts that contain Oregon & California (O&C) Grand Lands and Coos Bay Wagon Road lands. The Act establishes a six-year payment schedule to local counties in lieu of funds derived from the harvest of timber on federal lands, which have dropped dramatically over the past 10 years.

The Act creates a new mechanism for local community collaboration with federal land management activities in the selection of projects to be conducted on federal lands or that will benefit resources on federal lands using funds under Title II of the Act. The Roseburg District BLM Resource Advisory Committee consists of 15 local citizens (plus 6 alternates) representing a wide array of interests.

FOR FURTHER INFORMATION CONTACT: Additional information concerning the Roseburg District BLM Resource Advisory Committee may be obtained from Jake Winn, Roseburg District Office, 777 Garden Valley Blvd, Roseburg, Oregon 97470, or jake_winn@or.blm.gov, or on the Web at www.or.blm.gov.

Dated: April 8, 2005.
Jay Carlson,
Roseburg District Manager.

[FR Doc. 05-7679 Filed 4-15-05; 8:45 am]

BILLING CODE 4310-33-P